ENVIRONMENTAL PROTECTION AGENCY

[FRL-9930-39-OA]

Meetings of the Local Government Advisory Committee and the Small Communities Advisory Subcommittee

AGENCY: Environmental Protection Agency.

ACTION: Notice.

SUMMARY: The Small Communities Advisory Subcommittee (SCAS) will meet in Washington, DC, on Friday, July 31, 2015, 8:00 a.m.-9:00 a.m. (EDT). The Subcommittee will discuss rural strategy; E-Enterprise; and other issues and recommendations to the Administrator regarding environmental issues affecting small communities. The Local Government Advisory Committee (LGAC) will meet in Washington, DC, on Thursday, July 30, 2015, 8:15 a.m.-5:30 p.m. (EDT), and Friday, July 31, 2015, 9:15 a.m.-12:40 p.m. (EDT). The focus of the Committee meeting will be on issues pertaining to protecting America's waters; hydrofracturing; cleaning up our communities; air, climate and energy; and climate change resiliency and sustainability.

These are open meetings, and all interested persons are invited to participate. The SCAS will hear comments from the public between 8:35 a.m. and 8:45 a.m. on Friday, July 31, 2015, and the LGAC will hear comments from the public between 9:30 a.m. and 9:45 a.m. on Friday, July 31, 2015. Individuals or organizations wishing to address the Subcommittee or the Committee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for appearances requires it.

ADDRESSES: The Small Communities Advisory Subcommittee meetings will be held at the U.S. Environmental Protection Agency, Conference Room William Jefferson Clinton Building North, Room 6045, 1200 Pennsylvania Ave. NW., Washington, DC 20460. The Local Government Advisory Committee meetings will be held at the U.S. Environmental Protection Agency, William Jefferson Clinton Building North, Room 6045, 1200 Pennsylvania Ave. NW., Washington, DC 20460. Meeting summaries will be available after the meeting online at www.epa.gov/ocir/scas_lgac/lgac_index.htm and can be obtained by written request to the DFO.

FOR FURTHER INFORMATION CONTACT: Local Government Advisory Committee (LGAC) and Small Communities Advisory Subcommittee (SCAS), contact Frances Eargle, Designated Federal Officer, at (202) 564-3115 or email at eargle.frances@epa.gov.

Information on Services for Those With Disabilities: For information on access or services for individuals with disabilities, please contact Frances Eargle at (202) 564-3115 or email at eargle.frances@epa.gov. To request accommodation of a disability, please request it 10 days prior to the meeting, to give EPA as much time as possible to process your request.

Dated: June 27, 2015.
Frances Eargle,
Designated Federal Officer, Local Government Advisory Committee.

[FR Doc. 2015-16923 Filed 7-9-15; 8:45 am]

BILLING CODE 6560-50-P